National Science Foundation

Advisory Committee for Mathematical and Physical Sciences; Notice of Meeting

In accordance with Federal Advisory Committee Act (Pub. L. 92-463, as amended), the National Science Foundation announces the following meeting:

Name: Directorate for Mathematical and Physical Sciences Advisory Committee (66).

Date/Time: April 7, 2010 8 a.m.-6 p.m., April 8, 2010 8 a.m.-3 p.m.

Place: National Science Foundation, Room 1235, 4201 Wilson Boulevard, Arlington, VA 22230.

Type of Meeting: Open.

Contact Person: Dr. Morris L. Aizenman, Senior Science Associate, Directorate for Mathematical and Physical Sciences, Room 1005, National Science Foundation, 4201 Wilson Boulevard, Arlington, VA 22230. (703) 292-8807.

Purpose of Meeting: To provide advice and recommendations concerning NSF science and education activities within the Directorate for Mathematical and Physical Sciences.

Agenda

Update on current status of Directorate

Report of MPS Committee of Visitors

Report of NSF Advisory Subcommittees

Meeting of MPSAC with Divisions within MPS Directorate

Discussion of MPS Long-term Planning Activities

Summary Minutes: May be obtained from the contact person listed above.

Dated: March 14, 2012.
Susanne E. Bolton,
Committee Management Officer.

[FR Doc. 2012-6572 Filed 3-16-12; 8:45 am]

BILLING CODE 7555-01-P